DEPARTMENT OF STATE

[Public Notice 4858]

Culturally Significant Objects Imported for Exhibition Determinations: “Stubbs and the Horse”

Summary: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “Stubbs and the Horse” imported from abroad for temporary exhibition within the United States, are of cultural significance. The objects are imported pursuant to loan agreements with the foreign owners. I also determine that the exhibition or display of the exhibit objects at The Kimbell Art Museum, Fort Worth, Texas, from on or about November 14, 2004 to on or about February 6, 2005, and at the Walters Art Museum, Baltimore, Maryland, from on or about March 13, 2005 to on or about May 29, 2005, and at possible additional venues yet to be determined, is in the national interest. Public Notice of these Determinations is ordered to be published in the Federal Register.

For Further Information Contact: For further information, including a list of the exhibit objects, contact Wolodymyr R. Sulzynsky, the Office of the Legal Adviser, Department of State, (telephone: 202/619-5078). The address is: Department of State, SA-44, and 301 4th Street, SW., Room 700, Washington, DC 20547-0001.

Dated: October 1, 2004.
C. Miller Crouch,
Principal Deputy Assistant Secretary for Educational and Cultural Affairs, Department of State.

[FR Doc. 04-22936 Filed 10-12-04; 8:45 am]

BILLING CODE 4710-08-P